DEPARTMENT OF ENERGY

Federal Energy Regulatory Commission

[Project No. 4093-035]

McMahan Hydroelectric, L.L.C.; Notice of Application Accepted for Filing and Soliciting Comments, Motions To Intervene and Protests

Take notice that the following hydroelectric application has been filed with the Commission and is available for public inspection:

a. Type of Application: Original license.

b. Project No.: P-4093-035.

c. Date filed: March 30, 2015.

d. Applicant: McMahan Hydroelectric, L.L.C.

e. Name of Project: Bynum Hydroelectric Project.

f. Location: On the Haw River, near the Town of Pittsboro and the Town of Chapel Hill, North Carolina, in Chatham County, North Carolina. The project does not occupy federal lands.

g. Filed Pursuant to: Federal Power Act 16 U.S.C. 791 (a)-825(r).

h. Applicant Contact: Mr. Andrew J. McMahan, President, McMahan Hydroelectric, L.L.C., 105 Durham Eubanks Road, Pittsboro, NC 273121; (336) 509-2148; email—mcmahanhydro@gmail.com.

i. FERC Contact: Sean Murphy at (202) 502-6145; or email at sean.murphy@ferc.gov, or Dustin Wilson at (202) 502-6528; or email at dustin.wilson@ferc.gov.

j. Deadline for filing comments, motions to intervene and protests: 60 days from the issuance date of this notice.

The Commission strongly encourages electronic filing. Please file motions to intervene and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-4093-035.

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

k. This application has been accepted for filing, but is not ready for environmental analysis at this time. When the application is ready for environmental analysis, the Commission will issue a public notice requesting comments, recommendations, terms and conditions, or prescriptions.

l. The existing Bynum Project includes: (1) A 20-acre reservoir (referred to as Odell Lake) at elevation 315.0 feet mean sea level, with 100 acre-feet of gross storage and no net storage; (2) a 900-foot-long, 10-foot-high stone masonry dam (Bynum Dam, or Odell Lake Dam), consisting of a 750-foot-long uncontrolled spillway section and a 150-foot-long non-overflow section that contains canal intake facilities; (3) two hydraulically controlled 6-foot-wide Tainter gates that allow water to flow into an intake canal; (4) a 2,000-foot-long power canal varying in width from 25 to 40 feet that (a) extends from Bynum Dam to the powerhouse, and (b) includes a drainage gate located immediately upstream of the powerhouse; (5) a powerhouse with (a) an intake protected by a trashrack having a bar spacing of 2.75 inches, and (b) a single turbine/generator unit; (6) a 500-foot-long tailrace varying in width from 40 to 50 feet; (7) a 2,500-foot-long bypassed reach; (8) an interconnection with the transmission system at a nearby substation; and (9) appurtenant facilities.

m. A copy of the application is available for review at the Commission in the Public Reference Room or may be viewed on the Commission's Web site at http://www.ferc.gov/docs-filing/elibrary.asp. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Public notice of the filing of the initial development application was issued for competing applications or notices of intent. Under the Commission's regulations, any competing development application must be filed in response to and in compliance with public notice of the initial development application. No competing applications or notices of intent may be filed in response to this notice.

o. Comments, Motions to Intervene, or Protests: Anyone may submit comments, a motion to intervene, or a protest in accordance with the requirements of Rules of Practice and Procedure, 18 CFR 385.210, 385.211, and 385.214. In determining the appropriate action to take, the Commission will consider all protests or other comments filed, but only those who file a motion to intervene in accordance with the Commission's Rules may become a party to the proceeding. Any comments, protests, or motions to intervene must be received on or before the specified deadline date for the particular application.

All filings must (1) bear in all capital letters the title “COMMENTS,” “MOTION TO INTERVENE,” or “PROTEST,” as applicable; (2) set forth in the heading the name of the applicant and the project number of the application to which the filing responds; (3) furnish the name, address, and telephone number of the person submitting the filing; and (4) otherwise comply with the requirements of 18 CFR 385.2001 through 385.2005. All comments, motions to intervene, and protests must set forth their evidentiary basis and otherwise comply with the requirements of 18 CFR 4.34(b). Each filing must be accompanied by proof of service on all persons listed on the service list prepared by the Commission in this proceeding, in accordance with 18 CFR 4.34(b) and 385.2010.

Dated: September 23, 2016.
Kimberly D. Bose,
Secretary.

[FR Doc. 2016-23677 Filed 9-29-16; 8:45 am]

BILLING CODE 6717-01-P